DEPARTMENT OF THE INTERIOR

Office of Natural Resources Revenue

[Docket No. ONRR-2011-0019; DS63610000 DR2PS0000.CH7000 156D0102R2]

Agency Information Collection Activities: Accounts Receivable Confirmations—OMB Control Number 1012-0001; Comment Request

AGENCY: Office of Natural Resources Revenue (ONRR), Interior.

ACTION: Notice of renewal of an existing Information Collection.

SUMMARY: To comply with the Paperwork Reduction Act of 1995 (PRA), ONRR is inviting comments on an information collection request that we will submit to the Office of Management and Budget (OMB) for review and approval. This Information Collection Request (ICR) covers the paperwork requirements under the Chief Financial Officers Act of 1990 (CFO). This notice also provides the public a second opportunity to comment on the paperwork burden of the regulatory requirements.

DATES: Submit written comments on or before September 30, 2015.

ADDRESSES: You may submit your written comments directly to the Desk Officer for the Department of the Interior (OMB Control Number 1012-0001), Office of Information and Regulatory Affairs, OMB, by email to OIRA_Submission@omb.eop.gov or telefax at (202) 395-5806. Please also mail a copy of your comments to Mr. Luis Aguilar, Regulatory Specialist, ONRR, P.O. Box 25165, MS 61030A, Denver, Colorado 80225-0165, or email Luis.Aguilar@onrr.gov. Please reference OMB Control Number 1012-0001 in your comments.

FOR FURTHER INFORMATION CONTACT: For questions on technical issues, contact Mr. Hans Meingast, Financial Management, ONRR, telephone (303) 231-3382, or email at hans.meingast@onrr.gov. For other questions, contact Mr. Luis Aguilar, telephone (303) 231-3418, or email Luis.Aguilar@onrr.gov. You may also contact Mr. Aguilar to obtain copies (free of charge) of (1) the ICR, (2) any associated forms, and (3) the regulations that require the subject collection of information. You may also review the information collection request online at http://www.reginfo.gov/public/do/PRAMain.

SUPPLEMENTARY INFORMATION:

1. Abstract

The Secretary of the U.S. Department of the Interior is responsible for mineral resource development on Federal and Indian lands and the Outer Continental Shelf (OCS). Under various laws, the Secretary's responsibility is to manage mineral resources production on Federal and Indian lands and the OCS, collect the royalties, and other mineral revenues due, and distribute the funds collected under those laws. Public laws pertaining to mineral leases on Federal and Indian lands and the OCS are posted at http://www.onrr.gov/Laws_R_D/PubLaws/default.htm.

The Secretary also has a trust responsibility to manage Indian lands and seek advice and information from Indian beneficiaries. Minerals produced from Federal and Indian leases vary greatly in the nature of occurrence, production, and processing methods. When a company or an individual enters into a lease to explore, develop, produce, and dispose of minerals from Federal or Indian lands, that company or individual agrees to pay the lessor a share in an amount or value of production from the leased lands. The lessee is required to report various kinds of information to the lessor relative to the disposition of the minerals. Such information is generally available within the records of the lessee or others involved in developing, transporting, processing, purchasing, or selling such minerals. The information collected includes data necessary to ensure that production is accurately valued and that royalties are appropriately paid.

Every year, under the CFO, the Department's Office of Inspector General, or its agent (agent), audits the Department's financial statements. The Department's goal is to receive an unqualified opinion. Accounts receivable confirmations are a common practice in the audit business. Due to continuously increasing scrutiny on financial audits, third-party confirmation on the validity of ONRR's financial records is necessary.

As part of CFO audits, the agent requests, by a specified date, third-party confirmation responses confirming that ONRR accounts receivable records agree with royalty payor records, for the following items: customer identification; royalty/invoice number; payor-assigned document number; date received; original amount reported; and remaining balance due ONRR as of a specified date. In order to meet this requirement, ONRR must mail letters on ONRR letterhead, signed by the Deputy Director for Office of Natural Resources Revenue, to royalty payors selected by the agent at random, asking them to respond to the agent, confirming the accuracy and/or validity of selected royalty receivable items and amounts. Verifying the amounts reported and the balances due requires time for research and analysis by payors.

This collection does not require proprietary, trade secret, or other confidential information not protected by agency procedures. No items of a sensitive nature are collected. The requirement to respond is voluntary.

OMB Approval

We are requesting OMB's approval to continue to collect this information. Not collecting this information would limit the Secretary's ability to discharge the duties of the office and may also result in the loss of royalty payments. Proprietary information submitted is protected, and there are no questions of a sensitive nature included in this information collection.

II. Data

Title: Accounts Receivable Confirmations.

OMB Control Number: 1012-0001.

Bureau Form Number: None.

Frequency: Annually.

Estimated Number and Description of Respondents: 24 randomly selected Federal and Indian oil and gas and solid mineral royalty payors.

Estimated Annual Reporting and Recordkeeping “Hour” Burden: 6 hours. We estimate that each response will take 15 minutes for payors to complete.

Estimated Annual Reporting and Recordkeeping “Non-hour” Cost Burden: We have identified no “non-hour” cost burden associated with the collection of information.

III. Request for Comments

Section 3506(c)(2)(A) of the PRA requires each agency to “. . . publish a 60-day notice in the Federal Register . . . and otherwise consult with members of the public and affected agencies concerning each proposed collection of information . . . .” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a notice in the Federal Register on February 10, 2015 (80 FR 7494), announcing that we would submit this ICR to OMB for approval. The notice provided the required 60-day comment period. We received no comments in response to the notice.

If you wish to comment in response to this notice, you may send your comments to the offices listed under the ADDRESSES section of this notice. The OMB has up to 60 days to approve or disapprove the information collection but may respond after 30 days. Therefore, to ensure maximum consideration, OMB should receive public comments by September 30, 2015.

Public Disclosure Statement: The PRA (44 U.S.C. 3501 et seq.) provides that an agency may not conduct or sponsor—and a person is not required to respond to—a collection of information unless it displays a currently valid OMB control number.

Public Comment Policy: ONRR will post all comments, including names and addresses of respondents at http://www.regulations.gov. Before including Personally Identifiable Information (PII), such as your address, phone number, email address, or other personal information in your comment(s), you should be aware that your entire comment (including PII) may be made available to the public at any time. While you may ask us in your comment to withhold PII from public view, we cannot guarantee that we will be able to do so.

Dated: August 27, 2015.
Gregory J. Gould,
Director, Office of Natural Resources Revenue.

[FR Doc. 2015-21621 Filed 8-28-15; 8:45 am]

BILLING CODE 4335-30-P